DEPARTMENT OF TRANSPORTATION

Maritime Administration

[Docket No. MARAD-2019-0094]

Deepwater Port License Application: Bluewater Texas Terminal LLC

AGENCY: Maritime Administration, U.S. Department of Transportation; U.S. Coast Guard, Department of Homeland Security.

ACTION: Notice of availability; notice of virtual public meeting; request for comments.

SUMMARY: The Maritime Administration (MARAD) and the U.S. Coast Guard (USCG) announce the availability of the Draft Environmental Impact Statement (DEIS) for the Bluewater Texas Terminal SPM (Bluewater) Deepwater Port License Application for the export of crude oil from the United States to nations abroad. Additionally, MARAD and USCG announce a virtual public meeting and informational open house website for the Bluewater DEIS. Publication of this notice announces availability of the DEIS, initiates a 45-day comment period, requests public participation in the environmental impact review process, provides information on how to participate in the environmental impact review process, and announces the virtual informational open house and public meeting that will take place online to best comply with Coronavirus Disease 2019 safety guidelines. Previously, a notice of application summarizing the original Bluewater Deepwater Port License Application was published June 26, 2019, and notices of intent to prepare an environmental impact statement and public meeting were published on July 3, 2019.

DATES: The virtual public meeting will be held on Thursday November 18, 2021 from 6 p.m. to 8 p.m.

Additionally, materials submitted in response to this request for comments on the Bluewater DEIS must be submitted to the www.regulations.gov website or the Federal Docket Management Facility as detailed in the ADDRESSES section below no later than 45 days after the Environmental Protection Agency (EPA) publishes its notice of availability of the DEIS for the Bluewater Deepwater Port Application in the Federal Register.

ADDRESSES: The public docket for the Bluewater Deepwater Port License Application is maintained by the U.S. Department of Transportation, Docket Management Facility, West Building, Ground Floor, Room W12-140, 1200 New Jersey Avenue SE, Washington, DC 20590. Comments on the DEIS may be submitted to this address and must include the docket number for this project, which is MARAD-2019-0094. The Federal Docket Management Facility's telephone number is 202-366-9317 or 202-366-9826; the fax number is 202-493-2251.

We encourage you to submit comments electronically through the Federal eRulemaking Portal at http://www.regulations.gov. If you submit your comments electronically, it is not necessary to also submit a hard copy by mail. If you cannot submit material using http://www.regulations.gov, please contact either Mr. Ken Smith, USCG or Mr. Carlos Perez-Perez, MARAD, as listed in the following FOR FURTHER INFORMATION CONTACT section of this document below.

FOR FURTHER INFORMATION CONTACT: Mr. Ken Smith, Project Manager, USCG, telephone: 202-372-1413, email: Ken.A.Smith@uscg.mil or Mr. Carlos I. Perez-Perez, Environmental Protection Specialist, Office of Deepwater Port Licensing and Port Conveyance, MARAD, telephone: 202-366-3790, email: C.PerezPerez@dot.gov.

SUPPLEMENTARY INFORMATION: A Notice of Application that summarized the original Bluewater Deepwater Port License Application was published in the Federal Register on Wednesday, June 26, 2019 (80 FR 30301).

A Notice of Intent to Prepare an Environmental Impact Statement and Notice of Public Meeting was published in the Federal Register on Wednesday, July 3, 2019 (80 FR 32005). This Notice of Availability incorporates the aforementioned Federal Register Notices by reference.

The Bluewater Deepwater Port License Application proposes the construction and operation of a deepwater port terminal in the Gulf of Mexico (GOM) off Corpus Christi, Texas and close by Aransas and San Patricio Counties to export domestically produced crude oil.

Virtual Public Meeting

MARAD and USCG will hold one virtual public meeting in connection with the Bluewater DEIS. As stated, the virtual public meeting will be held remotely due to the nationwide impacts of the existing public health emergency under Section 319 of the Public Health Service Act in response to Coronavirus Disease 2019 (COVID-19). Further, the President's declaration of a national emergency due to the COVID-19 outbreak, and state and local actions in response to COVID-19, have impacted the public's ability to assemble and provide feedback on the Bluewater Deepwater Port License Application through in-person public meetings.

The public meeting may end later than the stated time, depending on the number of persons who wish to make a comment on the record. Anyone that is interested in attending the virtual public meeting or speaking during the virtual public meeting must register. Information on how to register for the virtual public meeting is provided in the Virtual Public Meeting and Informational Open House website section.

Request for Comments

We request public comments or other relevant information related to the DEIS for the proposed Bluewater Deepwater Port License Application. These comments will inform our preparation of the Final Environmental Impact Statement (FEIS). We encourage attendance at the virtual public meeting; however, you may submit comments electronically and it is preferred that comments be submitted electronically. Regardless of the method you use to submit comments or materials, all submissions will be posted, without change, to the Federal Docket Management Facility website (http://www.regulations.gov) and will include any personal information you provide. Therefore, submitting this information makes it public. You may wish to read the Privacy and Use Notice that is available on the www.regulations.gov website, and the Department of Transportation (DOT) Privacy Act Notice that appeared in the Federal Register on March 24, 2005 (70 FR 15086), see PRIVACY ACT. You may view docket submissions at the DOT Docket Management Facility or electronically at the www.regulations.gov website.

Virtual Public Meeting and Informational Open House Website

You are invited to learn about the proposed Bluewater Deepwater Port License Application at the virtual informational open house website (www.BluewaterEIS.com) and to comment on the proposed action and the environmental impact analysis contained in the DEIS during the virtual public meeting.

The public meeting will be hosted on the Zoom platform. The public meeting will be recorded and transcribed for placement in the public docket for the Bluewater Deepwater Port License Application. Comments will be accepted during the public meeting. The Zoom program can be accessed online by visiting the Zoom website at www.zoom.us. Speaker and attendee registration are available online at www.BluewaterEIS.com.

Meeting Procedure and Special Assistance

Registered speakers will be recognized in the following order: Elected officials, public agency representatives, then individuals or groups in the order in which they registered. In order to accommodate all speakers, speaker time may be limited, meeting hours may be extended, or both. Speakers' transcribed remarks will be included in the public docket. You may also submit written material for inclusion in the public docket. Written material must include the author's name. We ask attendees to respect the meeting procedures in order to ensure a constructive information-gathering session. The presiding officer will use their discretion to conduct the meeting in an orderly manner.

Public meetings are intended to be accessible to all participants. Individuals who require special assistance such as sign language interpretation, non-English language translation services, or other reasonable accommodations, please notify the USCG or MARAD (see FOR FURTHER INFORMATION CONTACT) at least 7 business days in advance of the virtual public meeting. Include your contact information as well as information about your specific needs.

Summary of the License Application

For the purposes of this application, the proposed Bluewater Deepwater Port Project is described in three distinguishable segments by locality to include the onshore components, the inshore components, and the offshore components.

Onshore components associated with the proposed Bluewater project are defined as those components on the landward side of the western Redfish Bay Mean High Tide (MHT) line, located in San Patricio and Aransas Counties, Texas. The onshore project components include:

• Approximately 22.13 miles of two new parallel 30-inch-diameter crude oil pipelines extending from a planned multi-use terminal located south of the City of Taft in San Patricio County, Texas.

• The planned Multi-Use Terminal will connect to multiple inbound and outbound crude oil pipelines. Two of those outbound pipelines are the proposed pipeline infrastructure that will extend to the inshore pipeline(s), which connect to the proposed operation facility located on Harbor Island described below. One water tank will be constructed at the Multi-Use Terminal to flush the offshore pipelines running to the Single Point Mooring (SPM) buoys described below.

Inshore components associated with the proposed Bluewater Deepwater Port Project are defined as those components located between the western Redfish Bay MHT line and the MHT line located at the interface of San Jose Island and the Gulf of Mexico. Inshore project components include:

• Approximately 7.29 miles of two new 30-inch-diameter crude oil pipelines connecting to the onshore facility, an approximately 12-acre operations station and a connection to the offshore pipeline. The onshore pipeline would be located within San Patricio County, Texas and Nueces County, Texas and a proposed operations facility would be located on Harbor Island in Nueces County, Texas.

• The operations facility located on Harbor Island will include approximately 12 acres of land and house the necessary infrastructure to support the transport of crude oil through the proposed pipeline infrastructure to the deepwater port for the loading of moored vessels. The facility would consist of pig launchers/receivers, meters and valves, operations building, and a communications facility, but no crude oil storage.

Offshore components associated with the proposed Bluewater Deepwater Port Project are defined as those components located seaward of the MHT line located at the interface of San Jose Island and the Gulf of Mexico. The offshore project components include:

• Approximately 26.76 miles of two new 30-inch-diameter crude oil pipelines extending from the shoreline crossing at the interface of San Jose Island to the offshore Bluewater Deepwater Port Project for crude oil delivery to Single Point Mooring (SPM) buoys.

• Two SPMs in Outer Continental Shelf Matagorda Island Area TX4 lease blocks 698 and 699, approximately 15 nautical miles (17.26 statute miles) off the coast of San Patricio County, Texas in a water depth of approximately 89 feet.

• A catenary anchor leg mooring (CALM) system for each SPM buoy connected to a pipeline end manifold (PLEM) system, mooring hawsers, floating hoses, and submarine hoses to allow for the loading of crude oil to vessels moored at the proposed deepwater port. The SPM buoy system will be permanently moored with a symmetrically arranged six-leg anchor dual chain configuration extending to twelve 72-inch-diameter pile anchors installed on the seafloor.

• Each of the proposed SPM buoy systems will consist of inner and outer cylindrical shells subdivided into twelve equal-sized watertight radial compartments. A rotating table will be affixed to the SPM buoy and allow for the connection of moored vessels to the SPM buoy system via mooring hawsers. Two floating hoses equipped with marine break-away couplings will be utilized for the transfer of crude oil from the SPM buoy systems to the moored vessel. Floating hoses will be equipped with strobe lights at 15-foot intervals for detection at night and low-light conditions.

Privacy Act

You may wish to read the Privacy and Security Notice and the User Notice that are available at https://www.federalregister.gov/documents/2005/03/24/05-5823/establishment-of-a- new-system-of-records-notice-for-the-federal-docket-management-system. The Privacy Act notice regarding the Federal Docket Management System is available in the March 24, 2005 issue of the Federal Register (70 FR 15086).

(Authority: 33 U.S.C. 1501, et seq.; 49 CFR 1.93(h)).

By Order of the Acting Maritime Administrator.
T. Mitchell Hudson, Jr.,
Secretary, Maritime Administration.

[FR Doc. 2021-23807 Filed 10-29-21; 8:45 am]

BILLING CODE 4910-81-P